DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. Additionally, OFAC is revising the entry of a vessel identified as blocked property on OFAC's SDN List. All property and interests in property subject to U.S. jurisdiction of these persons and vessels are blocked, and U.S. persons generally are prohibited from engaging in transactions with them.

DATES: This action was issued on June 18, 2025. See SUPPLEMENTARY INFORMATION for relevant dates.

FOR FURTHER INFORMATION CONTACT: OFAC: Associate Director for Global Targeting, 202-622-2420; Assistant Director for Licensing, 202-622-2480; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On June 18, 2025, OFAC determined that the property and interests in property subject to U.S. jurisdiction of the following persons are blocked under the relevant sanctions authority listed below.

Individuals:

1. DABBASH, Abdullah Ahsan Abdullah, Yemen; DOB 01 Jan 1978; nationality Yemen; Gender Male; Secondary sanctions risk: section 1(b) of Executive Order 13224, as amended by Executive Order 13886; Passport 02456632 (Yemen) expires 23 Mar 2013 (individual) [SDGT] (Linked To: YEMEN ELAPH PETROLEUM DERIVATIVES IMPORT).

Designated pursuant to section 1(a)(iii)(B) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for for owning or controlling, directly or indirectly, YEMEN ELAPH PETROLEUM DERIVATIVES IMPORT, a person whose property and interests in property are blocked pursuant to E.O. 13224, as amended.

2. AL-WASHLI, Zaid (a.k.a. AL-WUSHLI, Zaid Ahmed Taha Mohammed), Al-Hudaydah, Yemen; DOB 1982; POB Dhamar Governorate, Yemen; nationality Yemen; Gender Male; Secondary sanctions risk: section 1(b) of Executive Order 13224, as amended by Executive Order 13886; National ID No. 01010296670 (Yemen); Military Registration Number 6017985 (Yemen) (individual) [SDGT] (Linked To: ANSARALLAH).

Designated pursuant to section 1(a)(iii)(A) of E.O. 13224, as amended, for having acted or purported to act for or on behalf of, directly or indirectly, ANSARALLAH, a person whose property and interests in property are blocked pursuant to E.O. 13224, as amended.

3. TALEA, Ali Ahmed Daghsan, Sanaa, Yemen; DOB 05 Apr 1985; nationality Yemen; Gender Male; Secondary sanctions risk: section 1(b) of Executive Order 13224, as amended by Executive Order 13886; Passport 04875301 (Yemen) expires 01 Sep 2018 (individual) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

4. DAGHSAN, Daghsan Ahmed (a.k.a. TALEA, Dqssan Ahmed Dqssan), Yemen; DOB 03 Apr 1974; nationality Yemen; Gender Male; Secondary sanctions risk: section 1(b) of Executive Order 13224, as amended by Executive Order 13886; Passport 05569423 (Yemen) expires 01 Apr 2020 (individual) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

Entities:

1. TAMCO ESTABLISHMENT FOR OIL DERIVATIVES (a.k.a. TAMCO PETROLEUM), Al Sabeen District, Amana, Sanaa, Yemen; Shaikh Othman Jolat Alkarraa Aden, Taiz Street, Aden, Yemen; Sanaa Street, Hudaydah, Yemen; Secondary sanctions risk: section 1(b) of Executive Order 13224, as amended by Executive Order 13886; Organization Established Date 30 Aug 2018; Tax ID No. 6/11414 (Yemen); Registration Number 12896 (Yemen) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

2. YAHYA AL-USAILI COMPANY FOR IMPORT LIMITED, Hudaydah, Yemen; Secondary sanctions risk: section 1(b) of Executive Order 13224, as amended by Executive Order 13886; Organization Established Date 26 Jul 2016; Tax ID No. 161677/3 (Yemen); Registration Number 51/6132 (Yemen) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

3. ABBOT TRADING CO., LTD. (a.k.a. YEMEN ABBOT TRADING CO., LTD.), Zayid Street, Shaub Directorate, Sanaa, Yemen; Secondary sanctions risk: section 1(b) of Executive Order 13224, as amended by Executive Order 13886; Organization Established Date Feb 2019; Company Number 14 (Yemen) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

4. BLACK DIAMOND PETROLEUM DERIVATIVES, Sanaa, Yemen; Secondary sanctions risk: section 1(b) of Executive Order 13224, as amended by Executive Order 13886; Organization Established Date 2017; Registration Number 2017010225 (Yemen) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

5. STAR PLUS YEMEN TRADING LIMITED (a.k.a. STAR PLUS YEMEN TRADING COMPANY LTD.), 7 Yulyu, Al-Hudaydah, Al-Hudaydah Governorate, Yemen; Sanaa, Yemen; Secondary sanctions risk: section 1(b) of Executive Order 13224, as amended by Executive Order 13886; Organization Established Date 22 Mar 2017; Commercial Registry Number 11/85 (Yemen) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

6. ROYAL PLUS SHIPPING SERVICES AND COMMERCIAL AGENCIES, Sanaa, Yemen; Secondary sanctions risk: section 1(b) of Executive Order 13224, as amended by Executive Order 13886; Organization Established Date 2017; Organization Type: Transportation and storage [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

7. GASOLINE AMAN COMPANY FOR OIL DERIVATIVES IMPORTS (a.k.a. GASOLINE AMAN PETROLEUM DERIVATIVES IMPORT), Sanaa, Yemen; Secondary sanctions risk: section 1(b) of Executive Order 13224, as amended by Executive Order 13886; Organization Established Date 13 Mar 2018; Tax ID No. 164280-4 (Yemen); Registration Number 2018010217 (Yemen) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

8. AZZAHRA ESTABLISHMENT FOR COMMERCE AND AGENCIES (a.k.a. AL ZAHRAA ESTABLISHMENT FOR TRADE AND AGENCIES; a.k.a. AZZAHRA ENTERPRISE FOR TRADING AND AGENCIES), Yemen; Secondary sanctions risk: section 1(b) of Executive Order 13224, as amended by Executive Order 13886; Organization Established Date 24 Apr 2018; Tax ID No. 93905 (Yemen); Company Number 226/96 (Yemen); alt. Company Number 236/96 (Yemen); Registration Number 91/431 (Yemen) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

9. YEMEN ELAPH PETROLEUM DERIVATIVES IMPORT (a.k.a. YEMEN AILAF IMPORT DERIVATIVES PETROLEUM), Sanaa, Yemen; Aden, Yemen; Secondary sanctions risk: section 1(b) of Executive Order 13224, as amended by Executive Order 13886; Organization Established Date 2015; Registration Number 2015010532 (Yemen) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

10. BEST WAY TANKER CORP, Suite 10, 3rd Floor, La Ciotat, Mont Fleuri, Mahe Island, Seychelles; Strada Gradina Botanica 14/3, MD-2032, Chisinau, Moldova; Secondary sanctions risk: section 1(b) of Executive Order 13224, as amended by Executive Order 13886; Organization Established Date 2023; Identification Number IMO 6386836 [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

11. OCEAN VOYAGE LLC (a.k.a. OCEAN VOYAGE MAHDUD MASULIYYATLI CAMIYYATI), Zahid Xalilov, House 113, M12, Apt. M2, Baku AZ1141, Azerbaijan; Apartment M2, M12, Zahid Khalilov Kucasi, Yasamal District, 113, Baku AZ1141, Azerbaijan; Secondary sanctions risk: section 1(b) of Executive Order 13224, as amended by Executive Order 13886; Organization Established Date 04 Jun 2024; Tax ID No. 1308871731 (Azerbaijan); Identification Number IMO 6507571 [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

12. ATLANTIS M. SHIPPING CO, Trust Company Complex, Ajeltake Road, Majuro, Ajeltake Island 96960, Marshall Islands; Secondary sanctions risk: section 1(b) of Executive Order 13224, as amended by Executive Order 13886; Organization Established Date 2025; Identification Number IMO 0237712; Commercial Registry Number 131335 (Marshall Islands) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

On June 18, OFAC also identified the following vessels as property in which a blocked person has an interest under the sanctions authorities listed below:

Vessels:

1. VALENTE (T8A4170) Crude Oil Tanker Palau flag; Secondary sanctions risk: section 1(b) of Executive Order 13224, as amended by Executive Order 13886; Vessel Year of Build 2005; Vessel Registration Identification IMO 9298272; MMSI 511100949 (vessel) [SDGT] (Linked To: BEST WAY TANKER CORP).

Identified pursuant to Executive Order 13224, as amended, for being property in which BEST WAY TANKER CORP., a person whose property and interests in property are concurrently blocked pursuant to E.O. 13224, as amended, has an interest.

2. ATLANTIS MZ (a.k.a. CAILI STAR; a.k.a. TOMIE) (D604003) Crude Oil Tanker Unknown flag; Former Vessel Flag Comoros; Secondary sanctions risk: section 1(b) of Executive Order 13224, as amended by Executive Order 13886; Vessel Year of Build 2000; Vessel Registration Identification IMO 9218181; MMSI 620800003 (vessel) [SDGT] (Linked To: ATLANTIS M. SHIPPING CO).

Identified pursuant to Executive Order 13224, as amended, for being property in which ATLANTIS M. SHIPPING CO, a person whose property and interests in property are concurrently blocked pursuant to E.O. 13224, as amended, has an interest.

On June 18, 2025, OFAC also published the following revised information for the entry on the SDN List for the following vessel, who shall continue to be identified as blocked under the sanctions authority listed below.

TULIP BZ (T7AV5) LPG Tanker San Marino flag; Secondary sanctions risk: section 1(b) of Executive Order 13224, as amended by Executive Order 13886; Vessel Registration Identification IMO 9014420; MMSI 268249300 (vessel) [SDGT] (Linked To: ZAAS SHIPPING & TRADING CO).

-to-

SARAH (a.k.a. TULIP BZ) (D604004) LPG Tanker Unknown flag; Former Vessel Flag Comoros; Secondary sanctions risk: section 1(b) of Executive Order 13224, as amended by Executive Order 13886; Vessel Year of Build 1993; Vessel Registration Identification IMO 9014420; MMSI 620800004 (vessel) [SDGT] (Linked To: ZAAS SHIPPING & TRADING CO).

Lisa M. Palluconi,
Acting Director, Office of Foreign Assets Control.

[FR Doc. 2025-14109 Filed 7-25-25; 8:45 am]

BILLING CODE 4810-AL-P